DEPARTMENT OF JUSTICE

Notice of Lodging Proposed Consent Decree

In accordance with Departmental Policy, 28 CFR 50.7, notice is hereby given that a proposed Consent Decree in United States v. Joseph J. Perillo, et al., Case No. 1:19-cv-07763, was lodged with the United States District Court for the Northern District of Illinois (Eastern Division) on August 5, 2020.

This proposed Consent Decree concerns a complaint filed by the United States against Defendants Joseph J. Perillo, Perillo Motor Cars, Inc., and Gold Coast Motor Cars, Inc. d/b/a Perillo Collision Center, pursuant to Sections 10 and 14 of the Rivers and Harbors Appropriation Act of 1899, 33 U.S.C. 403, 406, 408 and 413, and Sections 301(a) and 309(b) of the Clean Water Act, 33 U.S.C. 1311(a) and 1319(b), to obtain injunctive relief from and impose civil penalties against the Defendants for violating the Clean Water Act by discharging pollutants without a permit into waters of the United States. The proposed Consent Decree resolves these allegations by requiring the Defendants to perform restoration and mitigation, and to pay a civil penalty.

The Department of Justice will accept written comments relating to this proposed Consent Decree for thirty (30) days from the date of publication of this Notice. Please address comments to Kurt N. Lindland, Assistant United States Attorney, United States Attorney's Office for the Northern District of Illinois, 219 South Dearborn Street, Chicago, IL 60604 and refer to United States v. Joseph J. Perillo, et al., DJ # 90-5-1-1-21676.

The proposed Consent Decree may be examined at the Clerk's Office, United States District Court for the Northern District of Illinois, Everett McKinley Dirksen United States Courthouse, 219 South Dearborn Street, Chicago, IL 60604. In addition, the proposed Consent Decree may be examined electronically at http://www.justice.gov/enrd/consent-decrees.

Cherie Rogers,
Assistant Section Chief, Environmental Defense Section, Environment and Natural Resources Division.

[FR Doc. 2020-17591 Filed 8-11-20; 8:45 am]

BILLING CODE 4410-15-P